DEPARTMENT OF COMMERCE

National Oceanic and Atmospheric Administration

[RTID 0648-XD026]

Western Pacific Fishery Management Council; Public Meeting; Correction

AGENCY: National Marine Fisheries Service (NMFS), National Oceanic and Atmospheric Administration (NOAA), Commerce.

ACTION: Notice of a date change of a public meeting.

SUMMARY: The Western Pacific Fishery Management Council will hold a meeting of its Mariana Archipelago Fishery Ecosystem Plan (FEP) Guam Advisory Panel (AP) to discuss and make recommendations on fishery management issues in the Western Pacific Region.

DATES: The meeting will be held Saturday, June 17, 2023, from 10 a.m. to 1 p.m.

ADDRESSES: The Mariana Archipelago Fishery Ecosystem Plan (FEP) Guam Advisory Panel (AP) meeting will be held in a hybrid format with in-person and remote participation (Webex) options available for the members and the public. In-person attendance for Mariana Archipelago FEP Guam AP members will be hosted at Cliff Pointe, 304 W O'Brien Drive, Hagatña, GU 96910. Instructions for connecting to the web conference and providing oral public comments will be posted on the Council website at www.wpcouncil.org. For assistance with the web conference connection, contact the Council office at (808) 522-8220.

FOR FURTHER INFORMATION CONTACT: Contact Kitty M. Simonds, Executive Director, Western Pacific Fishery Management Council; phone: (808) 522-8220.

SUPPLEMENTARY INFORMATION: The original notice published in the Federal Register on May 19, 2023 (88 FR 32197). This notice changes the date of the Mariana Archipelago FEP Guam AP meeting.

All other previously-published information remains the same.

Special Accommodations

The meeting is accessible to people with disabilities. Requests for sign language interpretation or other auxiliary aids should be directed to Kitty M. Simonds, (808) 522-8220 (voice) or (808) 522-8226 (fax), at least 5 days prior to the meeting date.

Authority: 16 U.S.C. 1801 et seq.

Dated: June 7, 2023.
Rey Israel Marquez,
Acting Deputy Director, Office of Sustainable Fisheries, National Marine Fisheries Service.

[FR Doc. 2023-12583 Filed 6-8-23; 4:15 pm]

BILLING CODE P